DEPARTMENT OF AGRICULTURE

Grain Inspection, Packers and Stockyards Administration

Designation for the Casa Grande, AZ; Jamestown, ND; Lincoln, NE; Memphis, TN; and Sioux City, IA Areas

AGENCY: Grain Inspection, Packers and Stockyards Administration, USDA.

ACTION: Notice.

SUMMARY: GIPSA is announcing the designation of Farwell Commodity Grain Services, Inc. (Farwell Southwest); Grain Inspection, Inc. (Jamestown); Lincoln Inspection Service, Inc. (Lincoln); Midsouth Grain Inspection Service (Midsouth); and Sioux City Grain Inspection and Weighing Service, Inc. (Sioux City) to provide official services under the United States Grain Standards Act (USGSA), as amended.

DATES: Effective: April 1, 2015

ADDRESSES: Eric J. Jabs, Deputy Director, USDA, GIPSA, FGIS, QACD, 10383 North Ambassador Drive, Kansas City, MO 64153

FOR FURTHER INFORMATION CONTACT: Eric J. Jabs, 816-659-8408 or Eric.J.Jabs@usda.gov.

Read Applications: All applications and comments are available for public inspection at the office above during regular business hours (7 CFR 1.27(c)).

SUPPLEMENTARY INFORMATION: In the October 14, 2014, Federal Register (79 FR 61596), GIPSA requested applications for designation to provide official services in the geographic areas presently serviced by Farwell Southwest, Jamestown, Lincoln, Midsouth, and Sioux City. Applications were due by November 13, 2014.

The current official agencies- Farwell Southwest, Jamestown, Lincoln, Midsouth, and Sioux City were the only applicants for designation to provide official services in these areas. As a result, GIPSA did not ask for additional comments. On January 2, 2015, subsequently, Sioux City purchased Central Iowa Grain Inspection Corporation (Central Iowa) and Sioux City asked GIPSA to amend their designation to include Central Iowa's geographic area. GIPSA reviewed the proposed amendment and determined that Sioux City met all of the requirements specified in 7 CFR 800.196(f)(2) to amend their geographical area.

GIPSA evaluated the designation criteria in section 79(f) of the USGSA (7 U.S.C. 79(f)) and determined that Farwell Southwest, Jamestown, Lincoln, and Midsouth are qualified to provide official services in the geographic area specified in the Federal Register on October 14, 2014. This designation to provide official services in the specified areas for Jamestown, Lincoln, and Midsouth is effective April 1, 2015, to March 31, 2018. This designation action to provide official services in the specified areas for Farwell Southwest is effective April 1, 2015, to March 31, 2017.

Sioux City's designation is amended to include the additional geographic area previously designated to Central Iowa. Sioux City's designation for the following amended geographical area is effective April 1, 2015, to March 31, 2017.

Sioux City

Pursuant to Section 79(f)(2) of the United States Grain Standards Act, the following geographic area, in the States of Iowa, Minnesota, Nebraska, and South Dakota, is assigned to this official agency.

In Iowa

Bounded on the North by the northern Iowa State line from the Big Sioux River east to U.S. Route 169.

Bounded on the East by U.S. Route 169 south to State Route 9; State Route 9 west to U.S. Route 169; U.S. Route 169 south to the northern Humboldt County line; the Humboldt County line east to State Route 17; State Route 17 south to C54; C54 east to U.S. route 69; U.S. Route 69 south to the northern Hamilton County line; northern Hamilton County line east to Interstate 35; Interstate 35 northeast to C55; C55 east to S41; S41 north to State Route 3; State Route 3 to east U.S. Route 65; U.S. Route 65 north to C25; C25 east to S56; S56 north to C23; C23 east to T47; T47 south to C33; C33 east to T64; T64 north to B60; B60 east to U.S. Route 218; U.S. Route 218 north to Chickasaw County; the western Chickasaw County line; and the western and northern Howard County lines. Bounded on the East by the Eastern Howard and Chickasaw County lines; the eastern and southern Bremer County lines; V49 south to State Route 297; State Route 297 south to D38; D38 west to State Route 21; State Route 21 south to State Route 8; State Route 8 west to U.S. Route 63; U.S. Route 63 south to Interstate 80; Interstate 80 east to the Poweshiek County line; the eastern Poweshiek, Mahaska, Monroe, and Appanoose County lines;

Bounded on the South by the southern Appanoose, Wayne, Decatur, Ringgold, and Taylor County lines.

Bounded on the West by the western Taylor County line; the southern Montgomery County line west to State Route 48; State Route 48 north to M47; M47 north to the Montgomery County line; the northern Montgomery County line; The western Cass and Audubon County Lines; the northern Audubon County line east to U.S. Route 71; U.S. Route 71 north to the southern Sac and Ida County lines; the eastern Monona County line south to State Route 37; State Route 37 west to State Route 175; State Route 175 west to the Missouri River; and by the Missouri River north to the Big Sioux River; the Big Sioux River north to the northern Iowa State line.

In Minnesota

Yellow Medicine, Renville, Lincoln, Lyon, Redwood, Pipestone, Murray, Cottonwood, Rock, Nobles, Jackson, and Martin Counties.

In Nebraska

Cedar, Dakota, Dixon, Pierce (north of U.S. Route 20), and Thurston Counties.

In South Dakota

Bounded on the North by State Route 44 (U.S. 18) east to State Route 11; State Route 11 south to A54B; A54B east to the Big Sioux River.

Bounded on the East by the Big Sioux River.

Bounded on the South and West by the Missouri River.

The following grain elevators are part of this geographic area assignment. In D. R. Schaal Agency's area: Maxyield Coop, Algona, Kossuth County; Stateline Coop, Burt, Kossuth County; Gold-Eagle, Goldfield, Wright County; North Central Coop, Holmes, Wright County, Iowa; Advantage F.S., Chapin, Franklin County; and Five Star Coop, Rockwell, Cerro Gordo County, Iowa.

The following grain elevators are not part of this geographic area assignment and are assigned to Omaha Grain Inspection Service, Inc.: Scoular Elevator, Elliot, Montgomery County and two Scoular elevators, Griswold, Cass County, Iowa.

Interested persons may obtain official services by contacting these agencies at the following telephone numbers:

Official agency | Headquarters location and telephone | Designation start | Designation end
Farwell Southwest | Casa Grande, AZ—(520) 421-1027 | 4/1/2015 | 3/31/2017
Jamestown | Jamestown, ND—(701) 252-1290 | 4/1/2015 | 3/31/2018
Lincoln | Lincoln, NE—(402) 435-4386 | 4/1/2015 | 3/31/2018
Midsouth | Memphis, TN—(901) 942-3216 | 4/1/2015 | 3/31/2018
Sioux City | Sioux City, IA—(712) 255-8073 | 4/1/2015 | 3/31/2017

Section 79(f) of the USGSA authorizes the Secretary to designate a qualified applicant to provide official services in a specified area after determining that the applicant is better able than any other applicant to provide such official services (7 U.S.C. 79 (f)).

Under Section 79(g) of the USGSA, designations of official agencies are effective for no longer than three years unless terminated by the Secretary; however, designations may be renewed according to the criteria and procedures prescribed in Section 79(f) of the USGSA.

Authority: 7 U.S.C. 71-87k.

Larry Mitchell,
Administrator, Grain Inspection, Packers and Stockyards Administration.

[FR Doc. 2016-04457 Filed 2-29-16; 8:45 am]

BILLING CODE 3410-KD-P